DEPARTMENT OF HEALTH AND HUMAN SERVICES

National Institutes of Health

National Institute of Diabetes and Digestive and Kidney Diseases; Amended Notice of Meeting

Notice is hereby given of a change in the meeting of the Board of Scientific Counselors, NIDDK, June 5, 2002, 6:00 PM to June 7, 2002, 5:00 PM, National Institutes of Health, Building 5, Room 127, Bethesda, MD, 20892 which was published in the Federal Register on April 18, 2002, 67 FR 19200.

The meeting will be held June 5, 2002 from 6:00 p.m. until adjournment on June 6, 2002. The meeting is partially Closed to the public.

Dated: May 14, 2002.
LaVerne Y. Stringfield,
Director, Office of Federal Advisory Committee Policy.

[FR Doc. 02-12762 Filed 5-21-02; 8:45 am]

BILLING CODE 4140-01-M